DEPARTMENT OF ENERGY

Federal Energy Regulatory Commission

[Docket No. RP96-200-104]

CenterPoint Energy Gas Transmission Company; Notice of Compliance Filing

June 18, 2003.

Take notice that on June 16, 2003, CenterPoint Energy Gas Transmission Company (CEGT) tendered for filing as part of its FERC Gas Tariff, Sixth Revised Volume No. 1, the following tariff sheet to be effective May 16, 2003:

Substitute Second Revised Sheet No. 862

CEGT states that the purpose of this filing is to correct an Activity Rate reported inaccurately in the May 16, 2003, filing.

Any person desiring to protest said filing should file a protest with the Federal Energy Regulatory Commission, 888 First Street, NE., Washington, DC 20426, in accordance with 385.211 of the Commission's rules and regulations. All such protests must be filed in accordance with 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 30, 2003.

Magalie R. Salas,
Secretary.

[FR Doc. 03-15919 Filed 6-23-03; 8:45 am]

BILLING CODE 6717-01-P